FEDERAL MARITIME COMMISSION

Guidelines for Ensuring and Maximizing the Quality, Objectivity, Utility, and Integrity of Information Disseminated by Federal Agencies

AGENCY: Federal Maritime Commission.

ACTION: Extension of period for public comment on draft Information Quality Guidelines.

SUMMARY: On May 30, 2002, the Federal Maritime Commission (“Commission”) published a notice in the Federal Register (67 FR 37805) announcing the posting of draft Information Quality Guidelines) (“Guidelines”) on its Web site at www.fmc.gov. The draft Guidelines set forth the Commission's policies and programs for ensuring and maximizing the quality, objectivity, utility, and integrity of certain information disseminated to the public, pursuant to section 515 of the Treasury and Government Appropriations Act for Fiscal Year 2001 (Public Law 106-554, 114 Stat. 2763) and guidelines issued by the Office of Management and Budget (“OMB”). By e-mail received June 10, 2002, OMB indicated that it has extended the deadline for the submission of agency draft final guidelines from July 1, 2002 to August 1, 2002, and encouraged agencies to use this extra time to extend the periods for public comment on draft agency guidelines. In view of the foregoing, the due date for the submission of comments on the Commissions' draft Guidelines has been extended from June 13, 2002 to July 5, 2002.

DATES: Submit an original and 15 copies of comments (paper), or e-mail comments as an attachment in WordPerfect 8, Microsoft Word 97, or earlier versions of these applications, no later than July 5, 2002.

ADDRESSES: Address all comments concerning the draft Guidelines to: Bryant L. VanBrakle, Secretary, Federal Maritime Commission, 800 North Capitol Street, NW., Room 1046, Washington, DC 20573-0001. E-mail: secretary@fmc.gov.

FOR FURTHER INFORMATION CONTACT: Bryant L. VanBrakle, Secretary, Federal Maritime Commission, 800 North Capitol Street, NW., Room 1046, Washington, DC 20573-0001. E-mail: secretary@fmc.gov.

Bryant L. VanBrakle,
Secretary.

[FR Doc. 02-15475 Filed 6-18-02; 8:45 am]

BILLING CODE 6730-01-M